DEPARTMENT OF TRANSPORTATION

Federal Aviation Administration

14 CFR Part 39

[Docket No. FAA-2005-20849; Directorate Identifier 2005-NE-04-AD; Amendment 39-14227; AD 2005-17-06]

RIN 2120-AA64

Airworthiness Directives; Turbomeca Artouste III Series Turboshaft Engines

AGENCY: Federal Aviation Administration (FAA), Department of Transportation (DOT).

ACTION: Final rule.

SUMMARY: The FAA is adopting a new airworthiness directive (AD) for Turbomeca Artouste III series turboshaft engines. This AD requires modification of the engine air intake assembly. This AD results from a report of an in-flight shutdown and subsequent loss of control of the helicopter due to ice ingestion into the engine. We are issuing this AD to prevent ice ingestion into the engine, which could lead to an in-flight shutdown and subsequent loss of control of the helicopter.

DATES: This AD becomes effective September 27, 2005. The Director of the Federal Register approved the incorporation by reference of certain publications listed in the regulations as of September 27, 2005.

ADDRESSES: Contact Turbomeca, 40220 Tarnos, France; telephone +33 05 59 74 40 00, fax +33 05 59 74 45 15, for the service information identified in this AD.

You may examine the AD docket on the Internet at http://dms.dot.gov or in Room PL-401 on the plaza level of the Nassif Building, 400 Seventh Street, SW., Washington, DC.

FOR FURTHER INFORMATION CONTACT: Christopher Spinney, Aerospace Engineer, Engine Certification Office, FAA, Engine and Propeller Directorate, 12 New England Executive Park, Burlington, MA 01803-5299; telephone (781) 238-7175; fax (781) 238-7199.

SUPPLEMENTARY INFORMATION: The FAA proposed to amend 14 CFR part 39 with a proposed airworthiness directive (AD). The proposed AD applies to Turbomeca Artouste III series turboshaft engines. We published the proposed AD in the Federal Register on April 6, 2005 (70 FR 17368). That action proposed to require adding two additional water drain holes in the engine air intake assembly.

Examining the AD Docket

You may examine the docket that contains the AD, any comments received, and any final disposition in person at the Docket Management Facility Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Comments

We provided the public the opportunity to participate in the development of this AD. We have considered the one comment received.

One commenter, Turbomeca, states that we should change the compliance section to reference Update No. 1 of Mandatory Service Bulletin (MSB) No. 218 72 0104. Update No. 1 of the MSB corrects an error in the MSB original issue. The MSB original issue required only one hole to be drilled in each half-air intake assembly, preventing the half-air intake assemblies from being interchangeable. Update No. 1 of the MSB requires a second hole to be drilled in each half-air intake assembly to make them interchangeable. We agree, and have changed the compliance section of this AD to reference Turbomeca MSB No. 218 72 0104, Update No. 1, dated March 25, 2005.

Conclusion

We have carefully reviewed the available data, including the comment received, and determined that air safety and the public interest require adopting the AD with the changes described previously. We have determined that these changes will neither increase the economic burden on any operator nor increase the scope of the AD.

Costs of Compliance

There are about 1,062 engines of the affected design in the worldwide fleet. We estimate that this AD will affect 59 engines installed on helicopters of U.S. registry. We also estimate that it will take about three work hours per engine to perform the actions, and that the average labor rate is $65 per work hour. Based on these figures, we estimate the total cost of the AD to U.S. operators to be $11,505.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2005-17-06 Turbomeca: Amendment 39-14227. Docket No. FAA-2005-20849; Directorate Identifier. 2005-NE-04-AD.

Effective Date

(a) This airworthiness directive (AD) becomes effective September 27, 2005.

Affected ADs

(b) None.

Applicability: (c) This AD applies to Turbomeca Artouste III B, B1, and D turboshaft engines. These engines are installed on, but not limited to, Aerospatiale (Eurocopter—France) SA-315B LAMA, and Alouette III SA3160, SA-316B, and SA-316C helicopters.

Unsafe Condition

(d) This AD results from a report of an in-flight shutdown and subsequent loss of control of the helicopter, due to ice ingestion into the engine. We are issuing this AD to prevent ice ingestion into the engine, which could lead to an in-flight shutdown and subsequent loss of control of the helicopter.

Compliance: (e) You are responsible for having the actions required by this AD performed within nine months after the effective date of this AD, unless the actions have already been done.

Addition of Water Drain Holes (Turbomeca Modification TU 171A)

(f) Within nine months from the effective date of this AD, drill two additional water drain holes in each engine air intake assembly half-cover, using paragraph 2.B. and the air intake assembly dimensional flat view of Turbomeca Artouste III Mandatory Service Bulletin No. 218 72 0104, Update No. 1, dated March 25, 2005.

Alternative Methods of Compliance

(g) The Manager, Engine Certification Office, has the authority to approve alternative methods of compliance for this AD if requested using the procedures found in 14 CFR 39.19.

Related Information

(h) DGAC airworthiness directive F-2003-455, dated December 24, 2003, also addresses the subject of this AD.

Material Incorporated by Reference

(i) You must use Turbomeca Artouste III Mandatory Service Bulletin No. 218 72 0104, Update No. 1, dated March 25, 2005, to perform the actions required by this AD. The Director of the Federal Register approved the incorporation by reference of this service bulletin in accordance with 5 U.S.C. 552(a) and 1 CFR part 51. Contact Turbomeca, 40220 Tarnos, France; telephone +33 05 59 74 40 00, fax +33 05 59 74 45 15, for a copy of this service information. You may review copies at the Docket Management Facility; U.S. Department of Transportation, 400 Seventh Street, SW., Nassif Building, Room PL-401, Washington, DC 20590-0001, on the internet at http://dms.dot.gov, or at the National Archives and Records Administration (NARA). For information on the availability of this material at NARA, call 202-741-6030, or go to: http://www.archives.gov/federal-register/cfr/ibr-locations.html.

Issued in Burlington, Massachusetts, on August 12, 2005.
Peter A. White,
Acting Manager, Engine and Propeller Directorate, Aircraft Certification Service.

[FR Doc. 05-16453 Filed 8-22-05; 8:45 am]

BILLING CODE 4910-13-P